DEPARTMENT OF TRANSPORTATION

Coast Guard

33 CFR Part 117

[CGD07-00-006]

RIN 2115-AE47

Drawbridge Operation Regulations; Longboat Pass and New Pass, Longboat Key, FL

AGENCY: Coast Guard, DOT.

ACTION: Notice of proposed rulemaking; reopening of comment period.

SUMMARY: The Commander, Seventh Coast Guard District issued a notice of proposed rulemaking on 25 August 2000, to change the regulations governing the operation of the State Road 789 drawbridge across Longboat Pass, Manatee County, and the New Pass bridge, Sarasota County, in Longboat Key, Florida. The comment period expired on October 24, 2000. The Coast Guard has received several requests for additional time to submit comments on the proposed rule. As a result, the Coast Guard is reopening the comment period for an additional 60 days.

DATES: Comments must be received on or before February 6, 2001.

ADDRESSES: You may mail comments and related material to Commander (obr), Seventh Coast Guard District, 909 SE 1st Avenue, Miami, Florida 33131-3050, or deliver them to room 406 at the above address between 7:30 a.m. and 4 p.m. Monday through Friday, except Federal holidays. The Commander, Seventh Coast Guard District maintains the public docket for this rulemaking. Comments and material received from the public, as well as documents indicated in this preamble as being available in the docket, will become part of this docket and will be available for inspection or copying at Commander (obr), Seventh Coast Guard District 909, SE 1st Avenue, room 406, Miami, FL 33131, between 8 a.m. and 4 p.m. Monday through Friday, except Federal holidays.

FOR FURTHER INFORMATION CONTACT: Mr. Barry Dragon, Project Officer, Seventh Coast Guard District, at (305) 415-6743.

SUPPLEMENTARY INFORMATION: On August 25, 2000, the Coast Guard published a notice of proposed rulemaking (65 FR 51787). The NPRM proposed to change the regulations governing the operation of the State Road 789 drawbridge across Longboat Pass, Manatee County, and the New Pass bridge, Sarasota County, in Longboat Key, Florida. The comment period ended on October 24, 2000. The Coast Guard has received requests from the U.S. Army Corps of Engineers, Manatee County, the town of Longboat Key, and the city of Sarasota for additional time to comment on this proposed rule. The Coast Guard believes additional time to comment on this notice of proposed rulemaking would be beneficial. Therefore, the Coast Guard is reopening the comment period for 60 days. All comments must be received by February 6, 2001.

Dated: November 27, 2000.
T.W. Allen,
U.S. Coast Guard, Commander, Seventh Coast Guard District.

[FR Doc. 00-31047 Filed 12-7-00; 8:45 am]

BILLING CODE 4910-15-P